DEPARTMENT OF HEALTH AND HUMAN SERVICES

Centers for Disease Control and Prevention

[Program Announcement 03048]

Cooperative Agreement for Collaborating Centers for Public Health Law; Notice of Availability of Funds

Application Deadline: June 9, 2003.

A. Authority and Catalog of Federal Domestic Assistance Number

This program is authorized under sections 301 and 311 of the Public Health Service Act, [42 U.S.C. sections 241, 242, and 243], as amended. The Catalog of Federal Domestic Assistance number is 93.283.

B. Purpose

The Centers for Disease Control and Prevention (CDC) announces the availability of fiscal year (FY) 2003 funds for a cooperative agreement for Collaborating Centers for Public Health Law. This program addresses the “Healthy People 2010” focus area Public Health Infrastructure.

The purpose of this program is to establish two or more centers for public health preparedness in public health law (“centers”) to improve the contribution that law makes to the health of the public and to the performance of the public health system. The highest priority will be on the contribution law makes to preventing, preparing for, and responding to terrorism, outbreaks of infectious disease, and other major public health threats and emergencies.

Measurable outcomes of the program will be in alignment with the following performance goal for the CDC Public Health Practice Program Office (PHPPO): Prepare state and local health systems, departments and laboratories to respond to current and emerging public health threats.

C. Eligible Applicants

Applications may be submitted by public and private nonprofit organizations and by governments and their agencies; that is, universities, colleges, technical schools, research institutions, public health and healthcare organizations, community-based organizations, faith-based organizations, and other public and private nonprofit organizations, state and local governments or their bona fide agents, including the District of Columbia, the Commonwealth of Puerto Rico, the Virgin Islands, the Commonwealth of the Northern Mariana Islands, American Samoa, Guam, the Federated States of Micronesia, the Republic of the Marshall Islands, and the Republic of Palau, federally recognized Indian tribal governments, Indian tribes, or Indian tribal organizations. CDC specifically encourages applications from consortia that include accredited schools of public health or medicine, accredited schools of law, and organizations that serve the legal and/or law enforcement communities.

Note: Title 2 of the United States Code section 1611 states that an organization described in section 501(c)(4) of the Internal Revenue Code that engages in lobbying activities is not eligible to receive Federal funds constituting an award, grant or loan.

D. Funding

Availability of Funds

Approximately $500,000 is available in FY 2003 to fund approximately two or more awards. It is expected that the average award will be approximately $165,000 ranging from $100,000 to $250,000. It is expected that the awards will begin on or about September 1, 2003, and will be made for a 12-month budget period within a project period of up to three years. Funding estimates may change.

Continuation awards within an approved project period will be made on the basis of satisfactory progress as evidenced by required reports and the availability of funds.

Recipient Financial Participation

Matching funds are not required for this program.

E. Program Requirements

Specific goals of the centers will be to:

1. Provide law-related information to public health practitioners, policy makers, and the legal community in at least two ways: (a) by conducting analyses of public health legal issues; and, separately, (b) by improving the quality, accessibility, and utility of information relevant to public health practitioners and maintained in standardized, electronic databases.

2. Improve the competencies of public health practitioners, public policy makers, the legal community, and others to apply law as an effective tool for public health.

3. Foster partnerships between the public health practice community and the legal community (including health attorneys, law enforcement agencies, the judiciary, legal education and training institutions; legal professional associations; and related organizations) to improve their contribution to applying law as an effective tool for public health.

CDC anticipates making awards to two or more centers. The centers will not necessarily conduct the same type of activities. An eligible applicant may apply to conduct activities that address goal 1, goal 2, goal 3, or any combination thereof. However, an applicant that proposes to conduct activities in more than one goal area must submit a separate application for each goal area. For example, if an applicant chooses to apply to conduct activities in both goal area 1 and goal area 2, the applicant must submit one application for each goal area. Each such application will be evaluated separately. CDC reserves the right to make an award to an applicant for activity in one goal area, but not in another.

In conducting activities to achieve the purpose of this program, the recipient will be responsible for the activities listed in 1. Recipient Activities, and CDC will be responsible for the activities listed in 2. CDC Activities.

1. Recipient Activities

With respect to goal 1, recipient activities will be to:

a. Conduct analyses of public health legal issues (see guidance in the Content section of this announcement).

b. Implement the information improvement plan submitted in your application to improve the quality, accessibility, and utility for public health practitioners of information relevant to public health and maintained in standardized, electronic, databases (see guidance in the Content section of this announcement); and revise that plan as needed thereafter.

c. Assist other organizations to conduct activities like those identified in (a) and (b) above.

d. Evaluate the impact of the activities annually.

With respect to goal 2, recipient activities will be to:

a. Review existing statements of core competencies in public health law for public health practitioners, public policy makers, the legal community, and others whose actions affect the health of the public, and assess the need for revision of those statements.

b. Assess the extent to which the groups listed above possess those core competencies.

c. Develop a plan (no later than December 31, 2003) for a self-sustaining program of training, education, and continuing education suitable for implementation at multiple jurisdictional levels to improve the achievement of public health law-related competencies by the current and future public health workforce, the legal community, and others whose actions affect the health of the public; revise that plan as needed thereafter.

d. Develop curricula, courses, and materials, (beginning no later than March 31, 2004) and disseminate training, education, and continuing education consistent with that plan.

e. Assist other organizations in developing and disseminating such training, education and continuing education consistent with that plan.

f. Evaluate the impact of the recipient's activities annually.

With respect to goal 3, recipient activities will be to:

a. Identify organizations in the legal community currently or potentially active in improving the contribution law makes to the health of the public; for this purpose the “legal community” includes health attorneys, law enforcement agencies, the judiciary, legal education and training institutions, legal professional associations, and related organizations.

b. Assess the capacity of those organizations to make such contributions and identify gaps between their existing and needed capacities.

c. Develop (by December 31, 2003) a plan to assist those organizations in improving their capacity; and revise that plan as needed thereafter.

d. Assist those organizations to improve their capacity through consultation, technical assistance, training, and other activities.

e. Evaluate the impact of the activities annually.

2. CDC Activities

a. Provide scientific, technical, and legal assistance.

b. In goal area 1, Provide technical assistance in identifying public health legal issues for analysis, in implementing the plan for improving information, and in developing approaches to assisting other organizations.

In goal area 2, Provide technical assistance in identifying existing statements of competencies, in setting priorities for a plan for a program to improve achievement of competencies, in setting priorities for training materials, and in developing approaches to assisting other organizations.

In goal area 3, Provide technical assistance in identifying organizations in the legal community suitable for partnerships, in developing methods for assessing their capacity, in setting priorities for assisting them, and in developing approaches to improving their capacity.

c. Collaborate in identifying constituencies to be served and in establishing goals, priorities, strategies, timelines, and training materials.

d. Identify and establish partnerships between the grantees and other organizations.

e. Collaborate in the evaluation of the effectiveness of the collaborative activities supported under this cooperative agreement.

F. Content

Letter of Intent (LOI)

A LOI is required for this program. The Program Announcement title and number must appear in the LOI. The narrative should be no more than two pages, double-spaced, printed on one side, with one-inch margins, and unreduced 12-point font. Your letter of intent will be used to estimate the potential reviewer workload and to avoid conflicts of interest during the review. Your letter of intent must include the following information: name, address, telephone number, and E-mail address of the Principal Investigator, the identities of other key personnel and participating institutions, and a narrative description of the proposed project.

Applications

The Program Announcement title and number must appear in the application. Use the information in the Program Requirements, Other Requirements, and Evaluation Criteria sections to develop the application content. Your PHS 398 (OMB Number 0925-0001) application will be evaluated on the criteria listed, so it is important to follow them in laying out your program plan. The narrative should be no more than 25 pages, single-spaced, printed on one side, with one-inch margins, and 12-point unreduced font.

The narrative should consist of, at a minimum, the following sections: Background and Need; Goals and Objectives; Project Management and Staffing; Methods and Plan of Operation; Collaboration Plan; Evaluation Plan; and Requested Budget.

In addition, the narrative contained in applications for activities that address goal 1 must include the following information:

a. A description of the public health legal issues the applicant tentatively proposes to analyze, reasons for selecting those issues, and a description of ways public health practitioners, policy makers, and the legal community would apply the results of those analyses.

b. A detailed plan for activities the recipient would conduct to improve the quality, accessibility, and utility for public health practitioners of information relevant to public health and maintained in standardized, electronic databases. (This is the “information improvement plan” referred to in the Program Requirements section of this announcement.) This type of information consists, in part, of information stemming from scholarly legal research and analysis and review, as well as information maintained in compilations of statutory and regulatory law and of judicial rulings. This body of information currently is largely inaccessible to public health practitioners. The information improvement plan will identify the types and sources of such information the recipient will include in these activities, the methods the recipient will use to improve the quality, accessibility, and utility of that information, the resources the recipient will use to conduct these activities, and a calendar showing when improved information would be made available to public health practitioners.

G. Submission and Deadline

Letter of Intent (LOI) Submission

On or before May 12, 2003, submit the LOI to the Grants Management Specialist identified in the “Where to Obtain Additional Information” section of this announcement.

Application Forms

Submit the original and two copies of PHS 398 (OMB Number 0925-0001) (Errata Instruction Sheet for PHS 398 attached). Forms are available at the following Internet address: http://www.cdc.gov/od/pgo/forminfo.htm.

If you do not have access to the Internet, or if you have difficulty accessing the forms on-line, you may contact the CDC Procurement and Grants Office Technical Information Management Section (PGO-TIM) at: 770-488-2700. Applications can be mailed to you.

Submission Date, Time, and Address

The application must be received by 4 p.m. Eastern Time June 9, 2003.

Submit the application to:

Technical Information Management-PA#03048, Procurement and Grants Office, Centers for Disease Control and Prevention, 2920 Brandywine Rd., Atlanta, GA 30341-4146.

Applications may not be submitted electronically.

CDC Acknowledgement of Application Receipt

A postcard will be mailed by PGO-TIM, notifying you that CDC has received your application.

Deadline

Letters of intent and applications shall be considered as meeting the deadline if they are received before 4 p.m. Eastern Time on the deadline date. Any applicant who sends their application by the United States Postal Service or commercial delivery services must ensure that the carrier will be able to guarantee delivery of the application by the closing date and time. If an application is received after closing due to: (1) Carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Letter of Intent

The required Letter of Intent will not be evaluated or scored.

Application

Applicants are required to provide measures of effectiveness that will demonstrate the accomplishment of the various identified objectives of the cooperative agreement. Measures of effectiveness must relate to the goals stated in the Program Requirements section of this announcement. Measures must be objective and quantitative and must measure the intended outcome. These measures of effectiveness shall be submitted with the application and shall be an element of evaluation.

A review group appointed by CDC will evaluate each application against the following criteria:

1. Collaboration Plan (25 points)

a. The extent to which the applicant presents documented evidence of past or current experience and collaboration, or capacity to collaborate, with partners active in public health practice and public health law, the legal community, and other relevant entities.

b. The extent to which the applicant proposes relevant and feasible collaborations with other organizations in conducting the Recipient Activities and methods for fostering collaboration among such organizations.

c. The extent to which the application includes signed agreements specifying the roles and responsibilities of each organization that will collaborate with the applicant.

2. Project Management and Staffing (20 points)

a. The extent to which the project staff is clearly identified, possesses appropriate skills and knowledge, and has clearly described roles.

b. The extent to which the application provides details regarding the level of effort and allocation of time for each staff position.

c. The extent to which the applicant possesses management and other systems to assure successful and responsible program implementation.

d. The applicant's experience in the management of resources and production of successful outcomes.

3. Methods and Plan of Operation (20 points)

a. The soundness of the methods the applicant proposes to use to conduct each of the Recipient Activities.

b. The specificity, relevance, and feasibility of the plan of action the applicant proposes to take to develop and conduct each of the Recipient Activities.

4. Goals and Objectives (15 points)

a. The extent to which the application addresses the center goals listed in the Program Requirements section of this announcement.

b. The extent to which the application specifies objectives, activities, work projects, and timelines, which are supportive of the goals, measurable, and feasible.

5. Background and Need (10 points)

The extent to which the applicant clearly describes the need for, and benefits of, the proposed center, including delineation of target audiences and benefits that they would realize from the center's activities.

6. Evaluation Plan (10 points)

The extent to which the applicant provides a detailed description of the methods to be used to evaluate program effectiveness, including identification of the variables to be evaluated, identification of the person(s) or organization(s) that will conduct evaluations, and specification of the time line for evaluations.

7. Budget (Not scored)

The extent to which the budget is clearly explained, adequately justified, reasonable, sufficient for the proposed project activities, and consistent with the intended use of the cooperative agreement funds.

8. Human Subjects

Does the application adequately address the requirements of title 45 CFR part 46 for the protection of human subjects: Not scored; however, an application can be disapproved if the research risks are sufficiently serious and protection against risks is so inadequate as to make the entire application unacceptable.

Does the application adequately address the CDC Policy requirements regarding the inclusion of women, ethnic, and racial groups in the proposed research. This includes:

1. The proposed plan for the inclusion of both sexes and racial and ethnic minority populations for appropriate representation.

2. The proposed justification when representation is limited or absent.

3. A statement as to whether the design of the study is adequate to measure differences when warranted.

4. A statement as to whether the plans for recruitment and outreach for study participants include the process of establishing partnerships with community(ies) and recognition of mutual benefits.

I. Other Requirements

Technical Reporting Requirements

Provide CDC with original plus two copies of:

1. Interim progress report, no less than 90 days before the end of the budget period. The progress report will serve as your non-competing continuation application, and must contain the following elements:

a. Current budget period activities and objectives.

b. Current budget period financial progress.

c. New budget period program proposed activities and objectives.

d. Detailed line-item budget and justification.

e. Additional requested information.

2. Financial status report, no more than 90 days after the end of the budget period.

3. Final financial and performance reports, no more than 90 days after the end of the project period.

Send all reports to the Grants Management Specialist identified in the “Where to Obtain Additional Information” section of this announcement.

Additional Requirements

The following additional requirements are applicable to this program. For a complete description of each, see Attachment I of this announcement as posted on the CDC Web site.

AR-1 Human Subjects Requirements

AR-2 Requirements for Inclusion of Women and Racial and Ethnic Minorities in Research

AR-7 Executive Order 12372 Review

AR-8 Public Health System Reporting Requirements

AR-9 Paperwork Reduction Act Requirements

AR-10 Smoke-free Workplace Requirements

AR-11 Healthy People 2010

AR-12 Lobbying Restrictions

AR-13 Prohibition on Use of CDC Funds for Certain Gun Control Activities

AR-15 Proof of Non-Profit Status

J. Where to Obtain Additional Information

This and other CDC announcements, the necessary applications, and associated forms can be found on the CDC Web site, Internet address: http://www.cdc.gov. Click on “Funding” then “Grants and Cooperative Agreements”.

For general questions about this announcement, contact:

Technical Information Management, CDC Procurement and Grants Office, 2920 Brandywine Road, Atlanta, GA 30341-4146, Telephone: 770-488-2700.

For Business management and budget assistance, contact:

Merlin J. Williams, Grants Management Specialist, Procurement and Grants Office, Centers for Disease Control and Prevention, 2920 Brandywine Road, Atlanta, GA 30341-4146, Telephone number 770-488-2765, E-mail address MWilliams2@cdc.gov.

For program technical assistance, contact:

Anthony D. Moulton, Ph.D., Public Health Law Program, Public Health Program Practice Office, Centers for Disease Control and Prevention, 4770 Buford Hwy. (K-39), Atlanta, Georgia 30341-3724, Phone 770-488-2405/Fax 770-488-2553, E-mail: ADM6@CDC.GOV.

Dated: April 4, 2003.
Sandra R. Manning,
Director, Procurement and Grants Office, Centers for Disease Control and Prevention.

[FR Doc. 03-8746 Filed 4-9-03; 8:45 am]

BILLING CODE 4163-18-P